INTERNATIONAL TRADE COMMISSION

[Investigation No. 731-TA-1528 (Final)]

Seamless Refined Copper Pipe and Tube From Vietnam

Determination

On the basis of the record ¹ developed in the subject investigation, the United States International Trade Commission (“Commission”) determines, pursuant to the Tariff Act of 1930 (“the Act”), that an industry in the United States is materially injured by reason of imports of seamless refined copper pipe and tube (“SRC pipe and tube”) from Vietnam, provided for in subheading 7411.10.10 of the Harmonized Tariff Schedule of the United States, that have been found by the U.S. Department of Commerce (“Commerce”) to be sold in the United States at less than fair value (“LTFV”).²

¹ The record is defined in § 207.2(f) of the Commission's Rules of Practice and Procedure (19 CFR 207.2(f)).

² 86 FR 33228 (June 24, 2021).

Background

The Commission instituted this investigation effective June 30, 2020, following receipt of a petition filed with the Commission and Commerce by the American Copper Tube Coalition, consisting of the Mueller Group, Collierville, Tennessee, and Cerro Flow Products, LLC, Sauget, Illinois. The Commission scheduled the final phase of the investigation following notification of a preliminary determination by Commerce that imports of SRC pipe and tube from Vietnam were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of February 23, 2021 (86 FR 10994). Since no party to the investigation requested a hearing, the public hearing in connection with the investigation, originally scheduled for June 15, 2021, was canceled.³

³ 86 FR 32277 (June 11, 2021).

The Commission made this determination pursuant to § 735(b) of the Act (19 U.S.C. 1673d(b)). It completed and filed its determination in this investigation on August 5, 2021. The views of the Commission are contained in USITC Publication 5216 (August 2021), entitled Seamless Refined Copper Pipe and Tube from Vietnam: Investigation No. 731-TA-1528 (Final).

By order of the Commission.
Issued: August 5, 2021.
Lisa Barton,
Secretary to the Commission.

[FR Doc. 2021-17083 Filed 8-10-21; 8:45 am]

BILLING CODE 7020-02-P